DEPARTMENT OF JUSTICE

Antitrust Division

Notice Pursuant to the National Cooperative Research and Production Act of 1993—Resilient Infrastructure + Secure Energy Consortium

Notice is hereby given that, on July 2, 2021, pursuant to Section 6(a) of the National Cooperative Research and Production Act of 1993, 15 U.S.C. 4301 et seq. (“the Act”), Resilient Infrastructure + Secure Energy Consortium (“RISE”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: 1st Call Technical Services, Inc., Bolingbrook, IL; ADC Energy USA, Inc., Long Beach, CA; ADL Ventures, San Francisco, CA; AECOM, Los Angeles, CA; Aleta Technologies, Inc., Huntsville, AL; Alliance for a Climate Resilient Earth, Washington, DC; Ameresco, Washington, DC; American Water, Camden, NJ; Anodyne Technologies, Inc., Jamaica, NY; Autonomous CRE +, Yarmouth, MA; Available Power LLC, Fort Collins, CO; Avania Group LLC, Burtonsville, MD; BAM Superior Solutions LLC, Scottsdale, AZ; BayoTech, Inc., Albuquerque, NM; Beryl Renewables, Lompoc, CA; Boundless Impact Research & Analytics LLC, New York, NY; BTU Research LLC, Houston, TX; City Light & Power, Greenwood Village, CO; CleanCapital, New York, NY; CleanTech Strategies LLC, Seattle, WA; Climate Resilience Consulting, Chicago, IL; Climate Resilient Internet LLC, Canton, MA; Concurrent Technologies Corporation, Johnstown, PA; Creare LLC, Hanover, NH; Creative Erg LLC, Corvallis, MT; DuBose National Energy Services, Clinton, NC; Eagle Energy, Alexandria, VA; Electric Infrastructure Security Council, Inc., Washington, DC; Electric Power Research Institute, Palo Alto, CA; Emag-Associates LLC, North Augusta, SC; Emera Technologies, Tampa, FL; Enchanted Rock, Houston, TX; Energy and Utility Consultant, Monument, CO; Energy One Solutions International, Raleigh, NC; Equipto Electronics, Aurora, IL; George Mason University, Fairfax, VA; GlidePath Federal Solutions LLC, Elmhurst, IL; Golden State Energy Properties, Sacramento, CA; GPEKS Holding, Inc., Ottawa, CANADA; Guidehouse LLP, Falls Church, VA; Hawaii State Energy Office, Honolulu, HI; Heila Technologies, Inc., Somerville, MA; Idaho National Laboratory, Washington, DC; Idaho Scientific, Boise, ID; Instant Access Networks LLC, Arnold, MD; Integral Marketing, Crofton, MD; JLL, Washington, DC; JMH Group, Inc., Bethesda, MD; Julius Education, Cambridge, MA; Lamplighter Energy, Dover, DE; Launch Alaska, Anchorage, AK; Lockheed Martin, Bethesda, MD; McGeown Associates LLC, Bridgewater, NJ; Mesh Grid, Irvine, CA; Modula S, Inc., Ketchum, ID; MRIGLOBAL, Kansas City, MO; National Energy USA, Pensacola, FL; National Renewable Energy Laboratory, Golden, CO; National Rural Electric Cooperative Association, Arlington, VA; NGI Consulting, Seattle, WA; Nhu Energy, Inc., Tallahassee, FL; Nishati, Inc., Gilbert, AZ; NuSynergy Energy LLC, Aiken, SC; Packet Dynamics LLC, Denver, CO; Portable Solar, Inc., Miami, FL; POWER Engineers, Hailey, ID; Powered for Patients, East Greenwich, RI; PowerField Energy, Falls Church, VA; PowerSecure, Inc., Durham, NC; ProtoGen, Inc., Quakertown, PA; Purify Fuel, Inc., Houston, TX; Sandia National Laboratories, Livermore, CA; Sheuerman Consulting LLC, Springfield, VA; Shifted Energy, Honolulu, HI; SIA Solutions LLC, Houston, TX; Sierra Nevada Corporation, Centennial, CO; Smart Electric Power Alliance, Washington, DC; Smith Energy Technology, Sheridan, WY; Stem, Inc., Millbrae, CA; SunSpec Alliance, San Jose, CA; Sustainable Energy and Environmental Solutions, Charles Town, WV; The Charles Stark Draper Laboratory, Inc., Cambridge, MA; The Concourse Group, Annapolis, MD; The PMC Group LLC, Centreville, VA; ThinkBox Group LLC, Purcellville, VA; TIAG, Inc., Reston, VA; Typhoon HIL, Somerville, MA; Viele Exploratory Sustainable Solutions LLC, Livingston Manor, NY; and XENDEE Corporation, San Diego, CA.

The general area of RISE's planned activity is to help address the energy security and climate crises by reimagining how we use, generate, transport, and store energy and how we build efficient, modern, resilient infrastructure. RISE will also serve as an industry forum to engage with new federal energy and resilience policies, standards, and programs. The process will be fully collaborative and to fulfill its mission, RISE will recruit a broad array of members from manufacturers, technology startups, energy services companies, utilities, academic institutions, financiers, and legal, consulting, and engineering firms to accelerate energy and infrastructure modernization.

Suzanne Morris,
Chief, Premerger and Division Statistics, Antitrust Division.

[FR Doc. 2021-18024 Filed 8-20-21; 8:45 am]

BILLING CODE P